NUCLEAR REGULATORY COMMISSION

Advisory Committee on Reactor Safeguards Joint Meeting of the Subcommittees on Human Factors and on Reliability and Probability Risk Assessment; Notice of Meeting

The ACRS Subcommittees on Human Factors and on Reliability and Probability Risk Assessment will hold a joint meeting on January 25, 2006, Room T-2B3, 11545 Rockville Pike, Rockville, Maryland.

The entire meeting will be open to public attendance.

The agenda for the subject meeting shall be as follows:

Wednesday, January 25, 2006—8:30 a.m. Until 12:30 p.m.

The Subcommittees will examine current status of NRC's safety management/culture initiatives, and associated approaches to address safety culture in the regulatory oversight process. The Subcommittee will hear presentations by and hold discussions with representatives of the NRC staff, and other interested persons regarding this matter. The Subcommittees will gather information, analyze relevant issues and facts, and formulate proposed positions and actions, as appropriate, for deliberation by the full Committee.

Members of the public desiring to provide oral statements and/or written comments should notify the Designated Federal Official, Dr. John H. Flack (telephone 301/415-0426), five days prior to the meeting, if possible, so that appropriate arrangements can be made. Electronic recordings will be permitted.

Further information regarding this meeting can be obtained by contacting the Designated Federal Official between 7:30 a.m. and 4:15 p.m. (ET). Persons planning to attend this meeting are urged to contact the above named individual at least two working days prior to the meeting to be advised of any potential changes to the agenda.

Dated: December 15, 2005.
Michael L. Scott,
Branch Chief, ACRS/ACNW.

[FR Doc. E5-7781 Filed 12-22-05; 8:45 am]

BILLING CODE 7590-01-P